FEDERAL COMMUNICATIONS COMMISSION

47 CFR Part 20

[CC Docket No. 94-102; FCC 01-293]

Wireless E911 Service, Petition of City of Richardson, TX

AGENCY: Federal Communications Commission.

ACTION: Final rule; announcement of effective date.

SUMMARY: The Commission has received Office of Management and Budget (OMB) approval for revised paperwork information burdens to OMB No. 3060-0813, contained in the Order regarding a petition for clarification and/or declaratory ruling filed by the City of Richardson, Texas. The effective date for revisions made certain rule sections was held in abeyance until OMB approval for these revised burdens was granted. This document is needed to notify the public that OMB has approved these burdens and to announce that these rules are now effective.

DATES: The revision to 47 CFR 20.18(j) published at 66 FR 55618 (November 2, 2001) is effective November 30, 2001.

FOR FURTHER INFORMATION CONTACT: Jane Phillips, 202-418-1310.

SUPPLEMENTARY INFORMATION: The Federal Communications Commission has received OMB approval for the following public information collection pursuant to the Paperwork Reduction Act of 1995, Public Law 96-511. The rules adopted in this proceeding (see 66 FR 55618, November 2, 2001) are therefore effective with the publication of this announcement in the Federal Register. An agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Judy Boley, Federal Communications Commission (202) 418-0214.

Federal Communications Commission

OMB Control No.: 3060-0813.

Expiration Date: 5/31/02.

Title: Revision of the Commission's Rules to Ensure Compatibility with Enhanced 911 Calling Systems.

Form No.: N/A.

Estimated Annual Burden: 198,200 burden hours annually; 1 hour per response; 42,324 respondents.

Description: The demonstration of E911 capability will be required only when a requesting PSAP's E911 capability is challenged by the wireless carrier, and will be used by the carrier to verify that the requesting PSAP is in reality capable of receiving and using E911 data and that the carrier must therefore provide E911 service.

Federal Communications Commission.
William F. Caton,
Deputy Secretary.

[FR Doc. 01-29806 Filed 11-29-01; 8:45 am]

BILLING CODE 6712-01-P